PEACE CORPS

Information Collection Request; Submission for OMB Review

AGENCY: Peace Corps.

ACTION: 30-Day notice of request for public comments and submission to OMB for proposed collection of information.

SUMMARY: The Peace Corps is submitting the following information collection request to the Office of Management and Budget (OMB) for review and approval. In accordance with the Paperwork Reduction Act of 1995, we are requesting comments on this collection from all interested individuals and organizations. The purpose of this notice is to allow 30 days for public comment.

DATES: Submit comments on or before January 5, 2022.

ADDRESSES: Address written comments and recommendations for the proposed information collection to Brianna Johnson, Acting FOIA/Privacy Act Officer, by email at pcfr@peacecorps.gov. Email comments must be made in text and not in attachments.

FOR FURTHER INFORMATION CONTACT: Brianna Johnson, Acting FOIA/Privacy Act Officer, at (202) 692-1236, or PCFR@peacecorps.gov.

SUPPLEMENTARY INFORMATION: Title: Peace Corps Application Form.

OMB Control Number: 0420-0005.

Type of Request: Reinstatement with change.

Affected Public: Individuals.

Respondents Obligation to Reply: Voluntary.

Respondents: Potential Volunteers.

Burden to the Public:

• Peace Corps Application Form

(a) Estimated number of applicants: 15,000.

(b) Frequency of response: one time.

(c) Estimated average burden per response: 55-60. minutes.

(d) Estimated total reporting burden: 15,000 hours.

(e) Estimated annual cost to respondents: 0.00.

General Description of Collection: The information collected by the Peace Corps Volunteer Application form is used by the Peace Corps to collect essential information from individual applicants, including technical and language skills, and availability for Peace Corps service. The Peace Corps Office of Volunteer Recruitment and Selection (VRS) uses the information in its assessment of an individual's qualifications to serve as a Peace Corps Volunteer, including practical and cross-cultural experience, maturity, motivation and commitment. Selection for Peace Corps service is based on that assessment.

Request for Comment: Peace Corps invites comments on whether the proposed collections of information are necessary for proper performance of the functions of the Peace Corps, including whether the information will have practical use; the accuracy of the agency's estimate of the burden of the proposed collection of information, including the validity of the information to be collected; and, ways to minimize the burden of the collection of information on those who are to respond, including through the use of automated collection techniques, when appropriate, and other forms of information technology.

This notice is issued in Washington, DC, on December 6, 2022.
Brianna Johnson,
Acting FOIA/Privacy Act Officer, Management.

[FR Doc. 2022-26761 Filed 12-8-22; 8:45 am]

BILLING CODE 6051-01-P